DEPARTMENT OF EDUCATION

Upward Bound Program; Reopening the Fiscal Year (FY) 2012 Competition for Certain Applicants To Submit Amended Applications; Catalog of Federal Domestic Assistance (CFDA) Number 84.047A

AGENCY: Office of Postsecondary Education, Department of Education.

ACTION: Notice.

SUMMARY: The Department of Education is reopening the Upward Bound (UB) program FY 2012 competition and accepting amended applications for new awards for the UB program FY 2012 competition from a limited number of applicants that may have been affected by incorrect information provided by the Department regarding Competitive Preference Priority 1—Persistently Lowest-Achieving Schools.

DATES:

Applications Available: March 2, 2012.

Deadline for Transmittal of Applications: March 16, 2012.

FOR FURTHER INFORMATION CONTACT: Ken Waters, Upward Bound Program, U.S. Department of Education, 1990 K Street NW., Room 7000, Washington, DC 20006-8510. Telephone: (202) 502-7586, or by email: Ken.Waters@ed.gov.

If you use a telecommunications device for the deaf (TDD), call the Federal Relay Service (FRS), toll free, at 1-800-877-8339.

SUPPLEMENTARY INFORMATION: On December 19, 2011, we published a notice in the Federal Register (76 FR 78621) inviting applications for new awards for FY 2012 for the UB Program (NIA). On January 25, 2012, we published a second notice in the Federal Register (77 FR 3751) extending the deadline date for the transmittal of applications to February 1, 2012, and extending the deadline date for Intergovernmental Review to April 2, 2012.

Shortly before the revised application deadline date, it came to the Department's attention that some informational materials made available on a Department Web site contained an error that may have led some applicants to incorrectly respond to one of the competitive preference priorities. Following a review of the nature and extent of the error and concerns about its potential effects on applicants' scores, the Department is reopening the competition for two weeks to provide time for applicants that submitted timely applications under the February 1, 2012, deadline and that may have been affected by this error to submit amended applications.

This opportunity will be limited to a specific subset of applicants that meet certain demonstrated criteria. The Department will compare amended applications submitted in accordance with this notice with the original submissions to ensure the applicant satisfies the criteria for a resubmission. The Department will not accept any amended application that fails to meet the criteria set forth in this notice.

In the NIA, the Department announced three competitive preference priorities to which potential applicants could respond. This notice reopens the competition for applicants that addressed Competitive Preference Priority 1—Turning Around Persistently Lowest-Achieving Schools. The priority provided additional points for applicants proposing to serve persistently lowest-achieving schools. This priority was from the notice of final supplemental priorities and definitions for discretionary grant programs, published in the Federal Register on December 15, 2010 (75 FR 78486), and corrected on May 12, 2011 (76 FR 27637) and includes a regulatory definition for the term “persistently lowest-achieving schools.”

A frequently asked questions document (FAQ) posted on the Department's Web site provided a link to the Department's Web page for the School Improvement Grants program where applicants could go to obtain a list of persistently lowest-achieving schools. This list, however, was outdated, and the FAQ incorrectly stated that schools listed as “Tier III” on the list would be considered persistently lowest-achieving schools.

So that applicants that submitted an application on or before the February 1, 2012, application deadline date and addressed Competitive Preference Priority 1 are not disadvantaged by the Department's error, we are reopening the application period for this group of applicants.

To assist these applicants in correctly responding to Competitive Preference Priority 1, we are publishing a revised and up-to-date list of those schools that the Department considers persistently lowest-achieving schools for purposes of this Competitive Preference Priority. This list does not include Tier III schools, which are not persistently lowest-achieving schools. Only schools identified on this list as Tier I or Tier II schools are considered by the Department to be persistently lowest-achieving schools for the purposes of scoring responses to Competitive Preference Priority 1. This list can be found at http://www2.ed.gov/programs/sif/index.html.

Applicants that successfully submitted an application on or before the February 1, 2012, application deadline date and addressed Competitive Preference Priority 1 will have until March 16, 2012 to submit an amended application. However, because the Department is offering this opportunity solely to correct a specific error, we will only accept applications from applicants that meet the following criteria. An applicant must:

• Have submitted a timely application on or before the application deadline date of February 1, 2012.

• Have addressed Competitive Preference Priority 1—Turning Around Persistently Lowest-Achieving Schools in that application.

• Submit an amended application that, as compared to its original application, proposes to serve a different set of target schools or a different distribution of students within the target schools identified in its original application.

Because the Department is reopening the competition to a limited number of applicants who may have been disadvantaged by the Department's error in responding to Competitive Preference Priority 1, applicants that submit an amended application should limit their amendments to making changes that are needed as a result of adjusting the schools they are proposing to serve or the distribution of the students they are proposing to serve within their target schools. Applicants should not make changes to their applications that are not related to adjusting their target schools or their distribution of students within target schools in response to the information provided in this notice on how to correctly respond to Competitive Preference Priority 1.

In addition, we note that there is no requirement that an applicant that addressed Competitive Preference Priority 1 amend its application. If an applicant chooses not to amend its application, or does not meet the third criterion for submitting an amended application, the application it originally submitted will be reviewed and scored.

We are not reopening the application period for any other applicants. Thus, applications that were not timely submitted may not be submitted as part of this reopening. In addition, applications that were timely submitted but did not address Competitive Preference Priority 1 are not affected by this error and may not be amended.

All information in the December 19, 2011, notice, as amended by the January 25, 2012, notice, remains the same for any amendments to applications that are submitted in response to this reopening notice, except for the updates to the DATES section, the specific criteria provided in this notice, and the following instructions for submitting amended applications.

1. Address to Request the Application Package: You can obtain an application package via the Internet by downloading the package from the program Web site at: http://www2.ed.gov/programs/trioupbound/index.html.

If you use a telecommunications device for the deaf (TDD), call the Federal Relay Service (FRS), toll free, at 1-800-877-8339.

Individuals with disabilities can obtain a copy of the original application package in an accessible format (e.g., braille, large print, audiotape, or compact disc) by contacting the program contact person listed under FOR FURTHER INFORMATION CONTACT.

2. Content and Form of Application Submission: Requirements concerning the content of an amended application, together with the forms you must submit, are in the application package for this program.

Page Limit: The application narrative is where you, the applicant, address the selection criteria that reviewers use to evaluate your amended application. You must limit the amended application narrative (Part III) to no more than 60 pages. However, any amended application addressing the competitive preference priorities may include up to four additional pages for each priority addressed (a total of 12 pages if all three priorities are addressed) in a separate section of the amended application submission to discuss how the amended application meets the competitive preference priority or priorities. These additional pages cannot be used for or transferred to the project narrative. Partial pages will count as a full page toward the page limit. For purpose of determining compliance with the page limit, each page on which there are words will be counted as one full page. Applicants must use the following standards:

• A “page” is 8.5″ x 11″, on one side only, with 1″ margins at the top, bottom, and both sides.

• Double space (no more than three lines per vertical inch) all text in the amended application narrative, except titles, headings, footnotes, quotations, references, and captions, as well as all text in charts, tables, figures, and graphs.

• Use a font that is either 12 point or larger.

• Use one of the following fonts: Times New Roman, Courier, Courier New, or Arial. An amended application submitted in any other font (including Times Roman and Arial Narrow) will not be accepted.

The page limits do not apply to Part I, the Application for Federal Assistance (SF 424); Part II, the budget information summary form (ED Form 524); the assurances and certifications; the UB Program Profile; or the one-page Project Abstract narrative. If you include any attachments or appendices, these items will be counted as part of Part III, the amended application narrative, for purposes of the page-limit requirement. You must include your complete response to the selection criteria, which also includes the budget narrative, in Part III, the amended application narrative.

We will reject your amended application if you exceed the page limit.

3. Submission Dates and Times:

Applications Available: March 2, 2012.

Deadline for Transmittal of Amended Applications: March 16, 2012.

Amended applications for grants under this program must be submitted electronically using the Grants.gov Apply site (Grants.gov). For information (including dates and times) about how to submit your amended application electronically, or in paper format by mail or hand delivery if you qualify for an exception to the electronic submission requirement, please refer to the Other Submission Requirements section of this notice.

We do not consider an amended application that does not comply with the deadline requirements.

Individuals with disabilities who need an accommodation or auxiliary aid in connection with the application process should contact the person listed under the FOR FURTHER INFORMATION CONTACT section of this notice. If the Department provides an accommodation or auxiliary aid to an individual with a disability in connection with the application process, the individual's application remains subject to all other requirements and limitations in this notice.

4. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your amended application is under review by the Department and, if you are awarded a grant, during the project period.

5. Other Submission Requirements: Amended applications for grants under this program must be submitted electronically unless you qualify for an exception to this requirement in accordance with the instructions in this section.

a. Electronic Submission of Amended Applications.

Amended applications for grants under the Upward Bound Grant Competition, CFDA number 84.047A, must be submitted electronically using the Governmentwide Grants.gov Apply site at www.Grants.gov. Through this site, you will be able to download a copy of the original application package, complete it offline, and then upload and submit your amended application. You may not email an electronic copy of a grant application to us.

We will reject your amended application if you submit it in paper format unless, as described elsewhere in this section, you qualify for one of the exceptions to the electronic submission requirement and submit, no later than one week before the amended application deadline date, a written statement to the Department that you qualify for one of these exceptions. Further information regarding calculation of the date that is one week before the amended application deadline date is provided later in this section under Exception to Electronic Submission Requirement.

You may access the original electronic grant application for the Upward Bound Grant competition at www.Grants.gov. You must search for the downloadable application package for this competition by the CFDA number. Do not include the CFDA number's alpha suffix in your search (e.g., search for 84.047, not 84.047A).

Please note the following:

• When you enter the Grants.gov site, you will find information about submitting an application electronically through the site, as well as the hours of operation.

• Applications received by Grants.gov are date and time stamped. Your amended application must be fully uploaded and submitted and must be date and time stamped by the Grants.gov system no later than 4:30:00 p.m., Washington, DC time, on the amended application deadline date. Except as otherwise noted in this section, we will not accept your amended application if it is received—that is, date and time stamped by the Grants.gov system—after 4:30:00 p.m., Washington, DC time, on the amended application deadline date. We do not consider an amended application that does not comply with the deadline requirements. When we retrieve your amended application from Grants.gov, we will notify you if we are rejecting your amended application because it was date and time stamped by the Grants.gov system after 4:30:00 p.m., Washington, DC time, on the amended application deadline date.

• The amount of time it can take to upload an application will vary depending on a variety of factors, including the size of the application and the speed of your Internet connection. Therefore, we strongly recommend that you do not wait until the amended application deadline date to begin the submission process through Grants.gov.

• You should review and follow the Education Submission Procedures for submitting an application through Grants.gov that are included in the application package for this competition to ensure that you submit your amended application in a timely manner to the Grants.gov system. You can also find the Education Submission Procedures pertaining to Grants.gov under News and Events on the Department's G5 system home page at http://www.G5.gov.

• You will not receive additional point value because you submit your amended application in electronic format, nor will we penalize you if you qualify for an exception to the electronic submission requirement, as described elsewhere in this section, and submit your amended application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your amended application as files in a .PDF (Portable Document) read-only, non-modifiable format. Do not upload an interactive or fillable .PDF file. If you upload a file type other than a read-only, non-modifiable .PDF or submit a password-protected file, we will not review that material.

• Your electronic amended application must comply with any page-limit requirements described in this notice.

• After you electronically submit your amended application, you will receive from Grants.gov an automatic notification of receipt that contains a Grants.gov tracking number. (This notification indicates receipt by Grants.gov only, not receipt by the Department.) The Department then will retrieve your amended application from Grants.gov and send a second notification to you by email. This second notification indicates that the Department has received your amended application and has assigned your amended application a PR/Award number (an ED-specified identifying number unique to your amended application).

• We may request that you provide us original signatures on forms at a later date.

Amended Application Deadline Date Extension in Case of Technical Issues with the Grants.gov System: If you are experiencing problems submitting your amended application through Grants.gov, please contact the Grants.gov Support Desk, toll free, at 1-800-518-4726. You must obtain a Grants.gov Support Desk Case Number and must keep a record of it.

If you are prevented from electronically submitting your amended application on the amended application deadline date because of technical problems with the Grants.gov system, we will grant you an extension until 4:30:00 p.m., Washington, DC time, the following business day to enable you to transmit your amended application electronically or by hand delivery. You also may mail your amended application by following the mailing instructions described elsewhere in this notice.

If you submit an amended application after 4:30:00 p.m., Washington, DC time, on the amended application deadline date, please contact the person listed in the FOR FURTHER INFORMATION CONTACT section of this notice and provide an explanation of the technical problem you experienced with Grants.gov, along with the Grants.gov Support Desk Case Number. We will accept your amended application if we can confirm that a technical problem occurred with the Grants.gov system and that that problem affected your ability to submit your amended application by 4:30:00 p.m., Washington, DC time, on the amended application deadline date. The Department will contact you after a determination is made on whether your amended application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your amended application in paper format, if you are unable to submit an amended application through the Grants.gov system because—

• You do not have access to the Internet; or

• You do not have the capacity to upload large documents to the Grants.gov system;

and

• No later than one week before the amended application deadline date (seven calendar days or, if the seventh calendar day before the amended application deadline date falls on a Federal holiday, the next business day following the Federal holiday), you mail or fax a written statement to the Department, explaining which of the two grounds for an exception prevent you from using the Internet to submit your amended application.

If you mail your written statement to the Department, it must be postmarked no later than one week before the revised application deadline date. If you fax your written statement to the Department, we must receive the faxed statement no later than two weeks before the amended application deadline date.

Address and mail or fax your statement to: Ken Waters, U.S. Department of Education, 1990 K St. NW., Room 7000, Washington, DC 20006-8510. FAX: (202) 502-7857.

Your paper revised application must be submitted in accordance with the mail or hand delivery instructions described in this notice.

b. Submission of Paper Amended Applications by Mail.

If you qualify for an exception to the electronic submission requirement, you may mail (through the U.S. Postal Service or a commercial carrier) your amended application to the Department. You must mail the original and two copies of your amended application, on or before the amended application deadline date, to the Department at the following address: U.S. Department of Education, Application Control Center, Attention: (CFDA Number 84.047A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your amended application through the U.S. Postal Service, we do not accept either of the following as proof of mailing:

(1) A private metered postmark.

(2) A mail receipt that is not dated by the U.S. Postal Service.

If your amended application is postmarked after the amended application deadline date, we will not consider your amended application.

Note: The U.S. Postal Service does not uniformly provide a dated postmark. Before relying on this method, you should check with your local post office.

c. Submission of Paper Amended Applications by Hand Delivery.

If you qualify for an exception to the electronic submission requirement, you (or a courier service) may deliver your paper amended application to the Department by hand. You must deliver the original and two copies of your amended application by hand, on or before the amended application deadline date, to the Department at the following address: U.S. Department of Education, Application Control Center, Attention: (CFDA Number 84.047A), 550 12th Street SW., Room 7041, Potomac Center Plaza, Washington, DC 20202-4260.

The Application Control Center accepts hand deliveries daily between 8 a.m. and 4:30:00 p.m., Washington, DC time, except Saturdays, Sundays, and Federal holidays.

Note for Mail or Hand Delivery of Paper Applications: If you mail or hand deliver your amended application to the Department—

(1) You must indicate on the envelope and—if not provided by the Department—in Item 11 of the SF 424 the CFDA number, including suffix letter, if any, of the competition under which you are submitting your amended application; and

(2) The Application Control Center will mail to you a notification of receipt of your grant amended application. If you do not receive this notification within 15 business days from the amended application deadline date, you should call the U.S. Department of Education Application Control Center at (202) 245-6288.

Program Authority: 20 U.S.C. 1070a-11 and 20 U.S.C. 1070a-13.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 28, 2012.
Eduardo M. Ochoa,
Assistant Secretary for Postsecondary Education.

[FR Doc. 2012-5165 Filed 3-1-12; 8:45 am]

BILLING CODE 4000-01-P